DEPARTMENT OF LABOR

Employment and Training Administration

Notice of Availability of Funds and Solicitation for Grant Applications for Training to Work—Adult Reentry

AGENCY: Employment and Training Administration, Labor.

ACTION: Notice of Solicitation for Grant Applications (SGA).

Funding Opportunity Number: SGA/DFA PY-12-06.

SUMMARY: The Employment and Training Administration (ETA) U.S. Department of Labor (DOL), announces the availability of approximately $20 million in grant funds authorized by the Workforce Investment Act and the Second Chance Act of 2007 to serve adult offenders enrolled in state and/or local work-release programs.

Under this solicitation, DOL expects to award 15 grants for up to $1,400,000 each to cover a 39-month period of performance, which includes a planning period of up to six months, program operation period of 24 months, and follow-up services of at least nine months provided to each participant. Any non-profit organization with Internal Revenue Service 501(c)(3) status may apply for these grants to provide services to eligible participants in areas of high-poverty and high-crime rates. These services will include case management; mentoring to support reintegration; education and/or training leading to industry-recognized credentials for in demand industries and occupations in the state or local area; integrated workforce activities to reduce recidivism; and follow-up services.

The complete SGA and any subsequent SGA amendments in connection with this solicitation are described in further detail on ETA's Web site at http://www.doleta.gov/grants/ or on http://www.grants.gov. The Web sites provide application information, eligibility requirements, review and selection procedures, and other program requirements governing this solicitation.

DATES: The closing date for receipt of applications under this announcement is May 2, 2013. Applications must be received no later than 4:00:00 p.m. Eastern Time.

FOR FURTHER INFORMATION CONTACT: Brinda Ruggles, 200 Constitution Avenue NW., Room N-4716, Washington, DC 20210; Telephone: 202-693-3437.

Signed March 13, 2013 in Washington, DC.
Eric D. Luetkenhaus,
Grant Officer, Employment and Training Administration.

[FR Doc. 2013-06285 Filed 3-18-13; 8:45 am]

BILLING CODE 4510-FN-P